DEPARTMENT OF COMMERCE

International Trade Administration

[A-588-869]

Diffusion-Annealed, Nickel-Plated Flat-Rolled Steel Products From Japan: Postponement of Preliminary Determination of Antidumping Duty Investigation

AGENCY: Import Administration, International Trade Administration, Department of Commerce.

DATES: Effective Date: August 19, 2013.

FOR FURTHER INFORMATION CONTACT: Angelica Mendoza, David Cordell or Dena Crossland, Office 7, AD/CVD Operations, Import Administration, International Trade Administration, U.S. Department of Commerce, 14th Street and Constitution Avenue NW., Washington, DC 20230, telephone: (202) 482-3019, (202) 482-0408 or (202) 482-3362, respectively.

SUPPLEMENTARY INFORMATION:

Background

On April 16, 2013, the Department of Commerce (the Department) initiated the antidumping duty investigation of diffusion-annealed, nickel-plated flat-rolled steel products from Japan. See Diffusion-Annealed, Nickel-Plated Flat-Rolled Steel Products From Japan: Initiation of Antidumping Duty Investigation, 78 FR 23905 (April 23, 2013). The current deadline for the preliminary determination of this investigation is September 3, 2013.

Period of Investigation

The period of investigation is January 1, 2012, through December 31, 2012.

Postponement of Preliminary Determination

Section 733(b)(1)(A) of the Tariff Act of 1930, as amended (the Act), requires the Department to make a preliminary determination no later than 140 days after the initiation of the investigation.

On August 7, 2013, petitioner, Thomas Steel Strip Corporation, made a timely request pursuant to section 733(c)(1)(A) of the Act and 19 CFR 351.205(e) for a postponement of the preliminary determination because of numerous factors including: the delay in selecting mandatory respondents; the extensions granted to respondents to respond to the Department's questionnaires; the need to issue further supplemental questionnaires; and petitioner's recent allegation that Toyo Kohan made sales in the Japanese market below the fully allocated cost of production, which will require the issuance of a section D questionnaire. See Letter from petitioner to the Department, entitled “Diffusion-Annealed Nickel-Plated Flat-Rolled Steel Products from Japan: Petitioner's Request for Extension of the Antidumping Investigation Preliminary Determination,” dated August 7, 2013.

For the reasons stated above and because there are no compelling reasons to deny the request, the Department is postponing by 50 days, to October 23, 2013, the deadline for its preliminary determination of this investigation pursuant to section 733(c)(1)(A) of the Act and 19 CFR 351.205(e) and (f). In accordance with section 735(a)(1) of the Act, the deadline for the final determination of this antidumping duty investigation will continue to be 75 days after the date of the preliminary determination, unless extended.

This notice is issued and published in accordance with section 733(c)(2) of the Act and 19 CFR 351.205(f)(1).

Dated: August 9, 2013.
Paul Piquado,
Assistant Secretary for Import Administration.

[FR Doc. 2013-20017 Filed 8-16-13; 8:45 am]

BILLING CODE 3510-DS-P